DEPARTMENT OF ENERGY

Office of Energy Efficiency and Renewable Energy

[Docket Number EERE-BT-PET-0024]

Energy Efficiency Program for Consumer Products: Commonwealth of Massachusetts Petition for Exemption From Federal Preemption of Massachusetts' Energy Efficiency Standard for Residential Non-Weatherized Gas Furnaces

AGENCY: Office of Energy Efficiency and Renewable Energy, Department of Energy.

ACTION: Notice of comments received on Petition for Exemption.

SUMMARY: This notice announces the availability of materials related to a petition filed by the Commonwealth of Massachusetts seeking an exemption from Federal preemption of certain energy efficiency standards. It also provides an opportunity for rebuttal to those comments that have already been received by the Department of Energy (DOE) in response to this petition.

DATES: DOE will accept rebuttal statements, from the Commonwealth of Massachusetts until, but no later than, July 7, 2010.

ADDRESSES: The January 28, 2010 Federal Register notice (75 FR 4548) is available for review on the Internet at: http://www.eere.energy.gov/buildings/appliance_standards/pdfs/ma_exemption_012810.pdf.

A document entitled “Massachusetts Petition for Exemption from Preemption” is available for review on the Internet at: http://www.eere.energy.gov/buildings/appliance_standards/pdfs/ma_state_petition.pdf.

Comments received are available for review on the Internet at: http://www.eere.energy.gov/buildings/appliance_standards/state_petitions.html.

Comments may also be obtained from Ms. Brenda Edwards-Jones, U.S. Department of Energy, Building Technologies Program, EE-2J, Room 1J-018, 1000 Independence Avenue, SW., Washington, DC 20585-0121, or by telephone (202) 586-2945.

Please submit comments, identified by docket number EERE-BT-PET-0024 by any of the following methods:

1. Federal eRulemaking Portal: http://www.regulations.gov. Follow the instructions for submitting comments.

2. E-mail: MAExemptPetition@ee.doe.gov. Include either the docket number EERE-BT-PET-0024, and/or “Massachusetts Petition” in the subject line of the message.

3. Mail: Ms. Brenda Edwards-Jones, U.S. Department of Energy, Building Technologies Program, Mailstop EE-2J, Room 1J-018, 1000 Independence Avenue, SW., Washington, DC 20585-0121. Please submit one signed original pa per copy.

4. Hand Delivery/Courier: Ms. Brenda Edwards-Jones, U.S. Department of Energy, Building Technologies Program, Room 1J-018, 1000 Independence Avenue, SW., Washington, DC 20585-0121.

5. Instructions: All submissions received must include the agency name and docket number for this proceeding. For detailed instructions on submitting comments and additional information on the proceeding, see section 2 above of this document.

Docket: For access to the docket to read the background documents relevant to this matter, go to the U.S. Department of Energy, Forrestal Building, Room 1J-018 (Resource Room of the Building Technologies Program), 1000 Independence Avenue, SW., Washington, DC, (202) 586-2945, between 9 a.m. and 4 p.m., Monday through Friday, except Federal holidays. Available documents include the following items: The Massachusetts Petition; correspondence from Massachusetts, correspondence from DOE, and any comments received. Please call Ms. Brenda Edwards-Jones at the above telephone number for additional information regarding visiting the Resource Room.

Please note: DOE's Freedom of Information Reading Room (formerly Room 1E-190 at the Forrestal Building) is no longer housing rulemaking materials. Electronic copies of the Petition are available online at DOE's Web site at the following URL address: http://www.eere.energy.gov/buildings/appliance_standards/state_petitions.html.

FOR FURTHER INFORMATION CONTACT:

Mohammed Khan, U.S. Department of Energy, Office of Energy Efficiency and Renewable Energy, Building Technologies Program, EE-2J, 1000 Independence Avenue, SW., Washington, DC 20585-0121, (202) 586-7892, or e-mail: Mohammed.Khan@ee.doe.gov.

Michael Kido, U.S. Department of Energy, Office of General Counsel, GC-71, 1000 Independence Avenue, SW., Washington, DC 20585, (202) 586-8145, e-mail: Michael.Kido@hq.doe.gov.

SUPPLEMENTARY INFORMATION: On January 28, 2010, DOE published a notice announcing the receipt of a petition submitted by the Commonwealth of Massachusetts. (75 FR 4548) That petition—Petition for Exemption from Federal Preemption of Massachusetts' 90% Annual Fuel Utilization Efficiency Standard for Non-weatherized Gas Furnaces (hereafter “Massachusetts Petition” or “Petition”)—sought a waiver of preemption from DOE to permit a standard affecting non-weatherized gas furnaces to remain in effect. The Massachusetts standard is higher than the current Federal standard for these products.

To help DOE evaluate the merits of the Massachusetts Petition, the January notice invited interested members of the public to comment on the petition and to submit any additional information related to the criteria that DOE must evaluate when considering a waiver petition seeking an exemption from Federal preemption. These criteria are outlined generally in 42 U.S.C. 6297(d). DOE provided interested parties with an opportunity to comment through March 29, 2010. The comments received are available for public review at the DOE's Web site and can be accessed at the specified URL address provided in the ADDRESSES section listed above.

As required by law, this notice provides a rebuttal comment period to permit the submission of rebuttals to those comments that have already been received by DOE, as well as any other supporting information or data that would assist the agency in evaluating the merits of the Massachusetts petition. The availability of the initial comments and the specific rebuttal comment period provided in this notice are in satisfaction of the requirements under 42 U.S.C. 6297(d)(2).

DOE invites all interested parties to comment on any aspects of the petition and on those comments that have been submitted and docketed in response to that petition. After examining all relevant submissions, including any rebuttal comments, DOE will issue its final decision in a manner consistent with the schedule laid out in its January 2010 notice.

Issued in Washington, DC, on May 27, 2010.
Cathy Zoi,
Assistant Secretary, Energy Efficiency and Renewable Energy.

[FR Doc. 2010-13544 Filed 6-4-10; 8:45 am]

BILLING CODE 6450-01-P